DEPARTMENT OF TRANSPORTATION

Federal Aviation Administration

14 CFR Part 39

[Docket No. FAA-2022-1238; Project Identifier MCAI-2022-00741-T]

RIN 2120-AA64

Airworthiness Directives; Dassault Aviation Airplanes

AGENCY: Federal Aviation Administration (FAA), DOT.

ACTION: Notice of proposed rulemaking (NPRM).

SUMMARY: The FAA proposes to supersede Airworthiness Directive (AD) 2022-09-15, which applies to all Dassault Aviation Model FALCON 2000 and FALCON 2000EX airplanes. AD 2022-09-15 requires relocating affected servo-valves and revising the existing airplane flight manual (AFM) to provide temporary information necessary to operate airplanes fitted with at least one affected brake servo-valve. This AD was prompted by a determination that replacing certain brake servo-valves is necessary to address the unsafe condition. This proposed AD would continue to require the actions in AD 2022-09-15 and would require replacing an affected part with a serviceable part, as specified in a European Union Aviation Safety Agency (EASA) AD, which is proposed for incorporation by reference (IBR). This proposed AD would also limit or prohibit the installation of affected brake servo-valves. The FAA is proposing this AD to address the unsafe condition on these products.

DATES: The FAA must receive comments on this proposed AD by December 5, 2022.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2022-1238; or in person at Docket Operations between 9 a.m. and 5 p.m., Monday through Friday, except Federal holidays. The AD docket contains this NPRM, the mandatory continuing airworthiness information (MCAI), any comments received, and other information. The street address for Docket Operations is listed above.

Material Incorporated by Reference:

• For the EASA AD identified in this NPRM, you may contact EASA, Konrad-Adenauer-Ufer 3, 50668 Cologne, Germany; telephone +49 221 8999 000; email ADs@easa.europa.eu; website easa.europa.eu. You may find this material on the EASA website at ad.easa.europa.eu. It is also available at regulations.gov under Docket No. FAA-2022-1238. Or,

• You may view this service information at the FAA, Airworthiness Products Section, Operational Safety Branch, 2200 South 216th St., Des Moines, WA. For information on the availability of this material at the FAA, call 206-231-3195.

FOR FURTHER INFORMATION CONTACT: Tom Rodriguez, Aerospace Engineer, Large Aircraft Section, FAA, International Validation Branch, 2200 South 216th St., Des Moines, WA 98198; telephone 206-231-3226; email Tom.Rodriguez@faa.gov.

SUPPLEMENTARY INFORMATION:

Comments Invited

The FAA invites you to send any written relevant data, views, or arguments about this proposal. Send your comments to an address listed under ADDRESSES. Include “Docket No. FAA-2022-1238; Project Identifier MCAI-2022-00741-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Tom Rodriguez, Aerospace Engineer, Large Aircraft Section, FAA, International Validation Branch, 2200 South 216th St., Des Moines, WA 98198; telephone 206-231-3226; email Tom.Rodriguez@faa.gov. Any commentary that the FAA receives which is not specifically designated as CBI will be placed in the public docket for this rulemaking.

Background

EASA, which is the Technical Agent for the Member States of the European Union, issued EASA Emergency AD 2022-0068-E, dated April 14, 2022 (EASA Emergency AD 2022-0068-E) (also referred to as the MCAI), to correct an unsafe condition for all Dassault Aviation Model FALCON 2000 and FALCON 2000EX airplanes. The FAA issued corresponding AD 2022-09-15, Amendment 39-22035 (87 FR 29217, May 13, 2022) (AD 2022-09-15), for all Dassault Aviation Model FALCON 2000 and FALCON 2000EX airplanes. AD 2022-09-15 requires relocating affected servo-valves and revising the existing AFM to provide temporary information necessary to operate airplanes fitted with at least one affected brake servo-valve. The FAA issued AD 2022-09-15 to prevent temporary failure of the brake servo-valves, which could lead to reduced braking performance during landing including degraded or dissymmetric braking, possibly resulting in reduced control of the airplane, lateral excursion of the runway, and consequent damage to the airplane.

Actions Since AD 2022-09-15 Was Issued

EASA Emergency AD 2022-0068-E requires the replacement of all affected brake servo-valves within 12 months. The preamble to FAA AD 2022-09-15 explained that the planned compliance time for that replacement would have allowed enough time to provide notice and opportunity for prior public comment on the merits of the action. Therefore, AD 2022-09-15 did not require the replacement, and was considered to be interim action pending the FAA's consideration of further rulemaking to mandate the replacement of all affected brake servo-valves.

This proposed AD was prompted by a determination that replacing certain brake servo-valves is necessary and reports of brake system failures during landing. Subsequent investigation determined the root cause to be a brake servo-valve failure. A batch of brake servo-valves has been identified during airplane production and maintenance with an internal oil type that does not meet the manufacturer's cold temperature specifications, which can lead to their failure. The FAA is proposing this AD to prevent temporary failure of the brake servo-valves, which could lead to reduced braking performance during landing including degraded or dissymmetric braking, possibly resulting in reduced control of the airplane, lateral excursion of the runway, and consequent damage to the airplane. See the MCAI for additional background information.

Explanation of Retained Requirements

Although this proposed AD does not explicitly restate the requirements of AD 2022-09-15, this proposed AD would retain all of the requirements of AD 2022-09-15. Those requirements are referenced in EASA Emergency AD 2022-0068-E, which, in turn, is referenced in paragraph (g) of this proposed AD.

Related Service Information Under 1 CFR Part 51

This proposed AD would require EASA Emergency AD 2022-0068-E, which was approved for incorporation by reference as of May 31, 2022 (87 FR 29217, May 13, 2022). This material is reasonably available because the interested parties have access to it through their normal course of business or by the means identified in the ADDRESSES section.

FAA's Determination

These products have been approved by the aviation authority of another country and are approved for operation in the United States. Pursuant to the FAA's bilateral agreement with the State of Design Authority, it has notified the FAA of the unsafe condition described in the MCAI referenced above. The FAA is issuing this NPRM after determining that the unsafe condition described previously is likely to exist or develop in other products of these same type designs.

Proposed AD Requirements in this NPRM

This proposed AD would retain all of the requirements of AD 2022-09-15. This proposed AD would also require replacing affected brake servo-valves.

EASA Emergency AD 2022-0068-E requires operators to “inform all flight crews” of revisions to the AFM, and thereafter to “operate the aeroplane accordingly.” However, this proposed AD would not specifically require those actions as those actions are already required by FAA regulations. FAA regulations require operators furnish to pilots any changes to the AFM (for example, 14 CFR 121.137), and to ensure the pilots are familiar with the AFM (for example, 14 CFR 91.505). As with any other flightcrew training requirement, training on the updated AFM content is tracked by the operators and recorded in each pilot's training record, which is available for the FAA to review. FAA regulations also require pilots to follow the procedures in the existing AFM including all updates. 14 CFR 91.9 requires that any person operating a civil aircraft must comply with the operating limitations specified in the AFM. Therefore, including a requirement in this proposed AD to operate the airplane according to the revised AFM would be redundant and unnecessary.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to retain the incorporation by reference of EASA Emergency AD 2022-0068-E by reference in the FAA final rule. This proposed AD would, therefore, require compliance with EASA Emergency AD 2022-0068-E in its entirety through that incorporation, except for any differences identified as exceptions in the regulatory text of this proposed AD. Using common terms that are the same as the heading of a particular section in EASA Emergency AD 2022-0068-E does not mean that operators need comply only with that section. For example, where the AD requirement refers to “all required actions and compliance times,” compliance with this AD requirement is not limited to the section titled “Required Action(s) and Compliance Time(s)” in EASA Emergency AD 2022-0068-E. Service information required by EASA Emergency AD 2022-0068-E for compliance will be available at regulations.gov by searching for and locating Docket No. FAA-2022-1238 after the FAA final rule is published.

Costs of Compliance

The FAA estimates that this proposed AD affects 441 airplanes of U.S. registry. The FAA estimates the following costs to comply with this proposed AD:

Estimated Costs for Required Actions
Action | Labor cost | Parts cost | Cost per product | Cost on U.S. operators
Relocation | 10 work-hours × $85 per hour = $850 | $0 | $850 | $374,850
AFM revision | 1 work-hour × $85 per hour = $85 | 0 | 85 | 37,485
Replacement | 10 work-hours × $85 per hour = $850 | 11,690 | 12,540 | 5,530,140

According to the manufacturer, some or all of the costs of this proposed AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-09-15, Amendment 39-22035 (87 FR 29217, May 13, 2022); and

b. Adding the following new AD:

Dassault Aviation: Docket No. FAA-2022-1238; Project Identifier MCAI-2022-00741-T.

(a) Comments Due Date

The FAA must receive comments on this airworthiness directive (AD) by December 5, 2022.

(b) Affected ADs

This AD replaces AD 2022-09-15, Amendment 39-22035 (87 FR 29217, May 13, 2022) (AD 2022-09-15).

(c) Applicability

This AD applies to all Dassault Aviation Model FALCON 2000 and FALCON 2000EX airplanes, certificated in any category.

(d) Subject

Air Transport Association (ATA) of America Code 32, Landing gear.

(e) Unsafe Condition

This AD was prompted by a determination that replacing certain brake servo-valves is necessary and reports of brake system failures during landing. The FAA is issuing this AD to prevent temporary failure of the brake servo-valves, which could lead to reduced braking performance during landing including degraded or dissymmetric braking, possibly resulting in reduced control of the airplane, lateral excursion of the runway, and consequent damage to the airplane.

(f) Compliance

Comply with this AD within the compliance times specified, unless already done.

(g) Requirements

Except as specified in paragraphs (h) and (i) of this AD: Comply with all required actions and compliance times specified in, and in accordance with, European Union Aviation Safety Agency (EASA) Emergency AD 2022-0068-E, dated April 14, 2022 (EASA Emergency AD 2022-0068-E).

(h) Exceptions to EASA Emergency AD 2022-0068-E

(1) Where paragraphs (1) and (2) of EASA Emergency AD 2022-0068-E refer to its effective date, this AD requires using May 31, 2022 (the effective date of AD 2022-09-15).

(2) Where paragraph (4) of EASA Emergency AD 2022-0068-E refers to its effective date, this AD requires using the effective date of this AD.

(3) Where paragraph (2) of EASA Emergency AD 2022-0068-E specifies to “inform all flight crews, and, thereafter, operate the aeroplane accordingly,” this AD does not require those actions as those actions are already required by existing FAA operating regulations (see 14 CFR 91.9, 91.505, and 121.137).

(4) The “Remarks” section of EASA Emergency AD 2022-0068-E does not apply to this AD.

(i) No Reporting

Although the service information referenced in EASA Emergency AD 2022-0068-E specifies to submit certain information and send removed parts to the manufacturer, this AD does not include that requirement.

(j) Additional FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch send it to the attention of the person identified in paragraph (k)(2) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Dassault Aviation's EASA Design Organization Approval (DOA). If approved by the DOA, the approval must include the DOA-authorized signature.

(k) Related Information

(1) For EASA Emergency AD 2022-0068-E, contact EASA, Konrad-Adenauer-Ufer 3, 50668 Cologne, Germany; telephone +49 221 8999 000; email ADs@easa.europa.eu; website easa.europa.eu. You may find this EASA AD on the EASA website at ad.easa.europa.eu. You may view this material at the FAA, Airworthiness Products Section, Operational Safety Branch, 2200 South 216th St., Des Moines, WA. For information on the availability of this material at the FAA, call 206-231-3195. This material may be found in the AD docket at regulations.gov by searching for and locating Docket No. FAA-2022-1238.

(2) For more information about this AD, contact Tom Rodriguez, Aerospace Engineer, Large Aircraft Section, FAA, International Validation Branch, 2200 South 216th St., Des Moines, WA 98198; telephone 206-231-3226; email Tom.Rodriguez@faa.gov.

Issued on September 22, 2022.
Christina Underwood,
Acting Director, Compliance & Airworthiness Division, Aircraft Certification Service.

[FR Doc. 2022-20982 Filed 10-19-22; 8:45 am]

BILLING CODE 4910-13-P